DEPARTMENT OF HEALTH AND HUMAN SERVICES

Centers for Medicare & Medicaid Services

[Document Identifier: CMS-R-262]

Agency Information Collection Activities: Submission for OMB Review; Comment Request

AGENCY: Centers for Medicare & Medicaid Services, HHS.

ACTION: Notice; partial withdrawal.

SUMMARY: On Wednesday, April 15, 2020, the Centers for Medicare & Medicaid Services (CMS) published a notice entitled, “Agency Information Collection Activities: Submission for OMB Review; Comment Request.” That notice invited public comments on two separate information collection requests specific to document identifiers: CMS-10716 and CMS-R-262. Through the publication of this document, we are withdrawing the portion of the notice requesting public comment on the information collection request titled “CMS Plan Benefit Package (PBP) and Formulary CY 2021.” Form number CMS-R-262 (OMB control number 0938-0673).

DATES: The original comment period for the document that published on April 15, 2020, remains in effect and ends May 15, 2020.

SUPPLEMENTARY INFORMATION: In FR document, 2020-07884, published on April 15, 2020, (85 FR 21009), we are withdrawing item 2 “CMS Plan Benefit Package (PBP) and Formulary CY 2021” which begins on page 21010.

Dated: April 20, 2020.
William N. Parham, III,
Director, Paperwork Reduction Staff, Office of Strategic Operations and Regulatory Affairs.

[FR Doc. 2020-08651 Filed 4-22-20; 8:45 am]

BILLING CODE 4120-01-P